COMMISSION ON CIVIL RIGHTS

Sunshine Act Notice

AGENCY: United States Commission on Civil Rights.

ACTION: Notice of meeting.

Date and Time: Thursday, August 16, 2007; 5 p.m.

Place: Via Teleconference; Public Call In Number: 1-800-597-7623.

Meeting Agenda

I. Approval of Agenda

II. Approval of Minutes of August 2, Meeting

III. Management and Operations

• 2009 Budget

IV. Program Planning

• Commissioner Responses to Briefing Reports

V. State Advisory Committee Issues

• New Jersey SAC

• South Carolina SAC

• Vermont SAC

VI. Future Agenda Items

VII. Adjourn

FOR FURTHER INFORMATION CONTACT: Manuel Alba, Press and Communications (202) 376-8582.

Dated: August 6, 2007.
Kenneth L. Marcus,
Staff Director.

[FR Doc. 07-3896 Filed 8-6-07; 3:42 am]

BILLING CODE 6335-01-P